DEPARTMENT OF COMMERCE

International Trade Administration

[A-489-833]

Large Diameter Welded Pipe From the Republic of Türkiye: Final Results of Antidumping Duty Administrative Review; 2023-2024; Correction

AGENCY: Enforcement and Compliance, International Trade Administration, Department of Commerce.

ACTION: Notice; correction.

SUMMARY: The U.S. Department of Commerce (Commerce) published a notice in the Federal Register of September 15, 2025, in which Commerce announced the final results of the 2023-2024 administrative review of the antidumping duty (AD) order on large diameter welded pipe (welded pipe) from the Republic of Türkiye (Türkiye). This notice corrects the spelling of the name of Emek Boru Makina Sanayi ve Ticaret A.S., a company that was not selected for individual examination.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On September 15, 2025, Commerce published in the Federal Register the final results of the 2023-2024 administrative review of the AD order on welded pipe from Türkiye.¹ We misspelled the name of Emek Boru Makina Sanayi ve Ticaret A.S., a company which was not selected for individual examination, as Emek Boru Makine Sanayi ve Ticaret A.S.²

¹ See Large Diameter Welded Pipe from the Republic of Türkiye: Final Results of Antidumping Duty Administrative Review; 2023-2024, 90 FR 44368 (September 15, 2025).

² See Initiation of Antidumping and Countervailing Duty Administrative Reviews, 89 FR 55567, 55573 (July 5, 2024).

Correction

In the Federal Register of September 15, 2025, in FR Doc 2025-17776, on page 44369, in the first column, in the second paragraph of the “Rate for Company Not Selected for Individual Examination” section, correct the company name in the last sentence from Emek Boru Makine Sanayi ve Ticaret A.S. to Emek Boru Makina Sanayi ve Ticaret A.S. Also on page 44369, in the first column, in the dumping margin rate table in the “Final Results of Review” section, correct the company name of Emek Boru Makine Sanayi ve Ticaret A.S to Emek Boru Makina Sanayi ve Ticaret A.S.

Notification to Interested Parties

This notice is issued and published in accordance with sections 751(a)(1) and 777(i) of the Tariff Act of 1930, as amended, and 19 CFR 351.221(b)(5).

Dated: November 19, 2025.
Christopher Abbott,
Deputy Assistant Secretary for Policy and Negotiations, performing the non-exclusive functions and duties of the Assistant Secretary for Enforcement and Compliance.

[FR Doc. 2025-20736 Filed 11-21-25; 8:45 am]

BILLING CODE 3510-DS-P